GENERAL SERVICES ADMINISTRATION

[OMB Control No. 3090-0058]

Information Collection; Federal Management Regulation; Standard Form 151, Deposit Bond, Annual Sale of Government Personal Property

AGENCY: Federal Acquisition Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding Standard Form 151, Deposit Bond, Annual Sale of Government Personal Property. The clearance currently expires on June 30, 2008.

Public comments are particularly invited on: Whether this collection of information is necessary and whether it will have practical utility; whether our estimate of the public burden of this collection of information is accurate, and based on valid assumptions and methodology; ways to enhance the quality, utility, and clarity of the information to be collected.

DATES: Submit comments on or before: June 13, 2008.

FOR FURTHER INFORMATION CONTACT: Ms. Iris Wright-Simpson, Property Marketing Specialist, Sales Branch, by telephone at (703) 605-2912 or via email to iris.wright-simpson@gsa.gov.

ADDRESSES: Submit comments regarding this burden estimate or any other aspect of this collection of information, including suggestions for reducing this burden to the Regulatory Secretariat (VPR), General Services Administration, Room 4035, 1800 F Street, NW., Washington, DC 20405. Please cite OMB Control No. 3090-0058; Standard Form 151, Deposit Bond, Annual Sale of Government Personal Property.

SUPPLEMENTARY INFORMATION:

A. Purpose

Standard Form 151 is used by bidders participating in sales of Government personal property whenever the sales invitation permits an annual type of deposit bond in lieu of cash or other form of deposit.

B. Annual Reporting Burden

Respondents: 250

Responses per Respondent: 1

Total Responses: 250

Hours per Response: .25

Total Burden Hours: 62.5

Obtaining copies of proposals: Requesters may obtain a copy of the information collection documents from the General Services Administration, Regulatory Secretariat (VPR), 1800 F Street, NW., Room 4035, Washington, DC 20405, telephone (202) 501-4755. Please cite OMB Control No. 3090-0058, Standard Form 151, Deposit Bond, Annual Sale of Government Personal Property, in all correspondence.

Dated: March 20, 2008.
Casey Coleman,
Chief Information Officer.

[FR Doc. E8-7816 Filed 4-11-08; 8:45 am]

BILLING CODE 6820-89-S